DEPARTMENT OF COMMERCE

International Trade Administration

[A-428-849]

Common Alloy Aluminum Sheet From Germany: Notice of Initiation of Changed Circumstances Review, and Consideration of Revocation, in Part, of the Antidumping Duty Order

AGENCY: Enforcement and Compliance, International Trade Administration, Department of Commerce.

SUMMARY: Based on a request from Eastman Kodak Company (Kodak), the U.S. Department of Commerce (Commerce) is initiating a changed circumstances review to consider the possible revocation, in part, of the antidumping duty (AD) order on common alloy aluminum sheet (CAAS) from Germany with respect to certain lithographic-grade aluminum sheet.

DATES: Applicable July 31, 2023.

FOR FURTHER INFORMATION CONTACT: Howard Smith, AD/CVD Operations, Office IV, Enforcement and Compliance, International Trade Administration, U.S. Department of Commerce, 1401 Constitution Avenue NW, Washington, DC 20230; telephone: (202) 482-5193.

SUPPLEMENTARY INFORMATION:

Background

On April 27, 2021, Commerce published AD orders on CAAS from multiple countries, including Germany.¹ On May 9, 2023, Kodak, a U.S. importer of subject merchandise, requested that Commerce conduct a changed circumstances review (CCR) and revoke, in part, the CAAS AD Order on Germany with respect to certain lithographic-grade aluminum sheet pursuant to section 751(b)(1) of the Tariff Act of 1930, as amended (the Act), and 19 CFR 351.216(b).² On June 7, 2023, Commerce notified Kodak that its request for a CCR lacked certain information that was required in order for Commerce to consider the request.³ On June 9, 2023, Kodak amended its request for a CCR by providing the information that Commerce requested.⁴ Specifically, Kodak provided a letter from the Aluminum Association Common Alloy Aluminum Sheet Trade Enforcement Working Group and its individual members ⁵ (domestic producers) in which they stated that they “do not oppose revocation of the antidumping order on CAAS from Germany with respect to the lithographic sheet for which Kodak is seeking a partial revocation in its request for a {changed circumstances review}.” ⁶

¹ See Common Alloy Aluminum Sheet from Bahrain, Brazil, Croatia, Egypt, Germany, India, Indonesia, Italy, Oman, Romania, Serbia, Slovenia, South Africa, Spain, Taiwan, and the Republic of Turkey: Antidumping Duty Orders, 86 FR 22139 (April 27, 2021) (CAAS AD Order).

² See Kodak's Letter, “Request for Expedited Changed Circumstances Review” dated May 9, 2023 (Request for CCR).

³ See Commerce's Letter, “Request for Additional Information” dated June 7, 2023.

⁴ See Kodak's Letter, “Supplemental Questionnaire Response” dated June 9, 2023 (Kodak's Supplemental Questionnaire Response).

⁵ The individual members of the Aluminum Association Common Alloy Aluminum Sheet Trade Enforcement Working Group are: Arconic Corporation; Commonwealth Rolled Products, Inc.; Constellium Rolled Products Ravenswood, LLC; JW Aluminum Company; Novelis Corporation; and Texarkana Aluminum, Inc. See Kodak's Supplemental Questionnaire Response at Exhibit 1 at 2 and footnote 1.

⁶ See Kodak's Supplemental Questionnaire Response at Exhibit 1 at 2.

Scope of the CAAS AD Order

The products covered by this order is common alloy aluminum sheet, which is a flat-rolled aluminum product having a thickness of 6.3 mm or less, but greater than 0.2 mm, in coils or cut-to-length, regardless of width. Common alloy sheet within the scope of this order includes both not clad aluminum sheet, as well as multi-alloy, clad aluminum sheet. With respect to not clad aluminum sheet, common alloy sheet is manufactured from a 1XXX-, 3XXX-, or 5XXX-series alloy as designated by the Aluminum Association. With respect to multi-alloy, clad aluminum sheet, common alloy sheet is produced from a 3XXX-series core, to which cladding layers are applied to either one or both sides of the core. The use of a proprietary alloy or non-proprietary alloy that is not specifically registered by the Aluminum Association as a discrete 1XXX-, 3XXX-, or 5XXX-series alloy, but that otherwise has a chemistry that is consistent with these designations, does not remove an otherwise in-scope product from the scope.

Common alloy sheet may be made to ASTM specification B209-14 but can also be made to other specifications. Regardless of specification, however, all common alloy sheet meeting the scope description is included in the scope. Subject merchandise includes common alloy sheet that has been further processed in a third country, including but not limited to annealing, tempering, painting, varnishing, trimming, cutting, punching, and/or slitting, or any other processing that would not otherwise remove the merchandise from the scope of this order if performed in the country of manufacture of the common alloy sheet.

Excluded from the scope of this order is aluminum can stock, which is suitable for use in the manufacture of aluminum beverage cans, lids of such cans, or tabs used to open such cans. Aluminum can stock is produced to gauges that range from 0.200 mm to 0.292 mm, and has an H-19, H-41, H-48, H-39, or H-391 temper. In addition, aluminum can stock has a lubricant applied to the flat surfaces of the can stock to facilitate its movement through machines used in the manufacture of beverage cans. Aluminum can stock is properly classified under Harmonized Tariff Schedule of the United States (HTSUS) subheadings 7606.12.3045 and 7606.12.3055.

Where the nominal and actual measurements vary, a product is within the scope if application of either the nominal or actual measurement would place it within the scope based on the definitions set for the above.

Common alloy sheet is currently classifiable under HTSUS subheadings 7606.11.3060, 7606.11.6000, 7606.12.3096, 7606.12.6000, 7606.91.3095, 7606.91.6095, 7606.92.3035, and 7606.92.6095. Further, merchandise that falls within the scope of this order may also be entered into the United States under HTSUS subheadings 7606.11.3030, 7606.12.3015, 7606.12.3025, 7606.12.3035, 7606.12.3091, 7606.91.3055, 7606.91.6055, 7606.92.3025, 7606.92.6055, 7607.11.9090. Although the HTSUS subheadings are provided for convenience and customs purposes, the written description of the scope of this order is dispositive.

Proposed Partial Revocation of the CAAS AD Order on Germany

Kodak proposes that the CAAS AD Order on Germany be revoked, in part, with respect to lithographic-grade aluminum sheet and that Commerce amend the scope to include the following language:

Also excluded from the scope is lithographic-grade aluminum sheet. To be excluded, the lithographic-grade aluminum sheet must meet the following criteria: (i) a Copper (Cu) content of no more than 0.01 percent, a Zinc (Zn) content of ≤0.05%, a Silicon (Si) content of 0.05%-0.20% and an Iron (Fe) content of 0.30%-0.50%; (ii) a thickness between 0.267 mm-0.3705 mm, (iii) a width of 500 mm-1650 mm, (iv) a maximum wave height of no more than 3.0 mm, (v) a tensile strength of 130 MPa or more (after baking), and (vi) a surface roughness less than or equal to Ra 0.26 µm.

The designation of a product as “lithographic-grade” indicates the acceptability of the product for use in the production of lithographic printing plates. Importers of lithographic-grade aluminum sheet are required to maintain a certification of end use that certifies the imported lithographic-grade aluminum sheet will be used only in the production of lithographic printing plates. Importers of lithographic-grade aluminum sheet are required to maintain a copy of the end-use certifications and to provide them at the request of U.S. Customs and Border Protection or the U.S. Department of Commerce.⁷

⁷ See Request for CCR at 3.

Initiation of Partial Revocation Changed Circumstances Review

Pursuant to section 751(b) of the Act, Commerce will conduct a CCR upon receipt of a request from an interested party ⁸ that shows changed circumstances sufficient to warrant a review of an order. In accordance with 19 CFR 351.216(d), Commerce determines that the information submitted by Kodak, and the domestic producers' ⁹ statement of no opposition to the partial revocation of the CAAS AD Order on Germany with respect to the product described by Kodak, which is the changed circumstance under consideration, constitute a sufficient basis to conduct a changed circumstances review of the CAAS AD Order on Germany.

⁸ Kodak reported in its May 9, 2023, request for a changed circumstances review that it is an importer of the lithographic-grade aluminum sheet that is the subject of its request. As such, Kodak is an interested party pursuant to 19 CFR 351.102(b)(29).

⁹ The domestic producers qualify as interested parties under section 771 9(C) of the Act and 19 CFR 351.102(29)(v).

Section 782(h)(2) of the Act and 19 CFR 351.222(g)(1)(i) provide that Commerce may revoke an order (in whole or in part) if it determines that producers accounting for substantially all the production of the domestic like product have expressed a lack of interest in the order, in whole or in part. Commerce has interpreted “substantially all” to mean producers accounting for at least 85 percent of the total U.S. production of the domestic like product covered by the order.¹⁰ In addition, in the event that Commerce determines that expedited action is warranted, 19 CFR 351.221(c)(3)(ii) permits Commerce to combine the notices of initiation and preliminary results of a changed circumstances review.

¹⁰ See, e.g., Certain Cased Pencils from the People's Republic of China: Initiation and Preliminary Results of Antidumping Duty Changed Circumstances Review, and Intent To Revoke Order in Part, 77 FR 42276 (July 18, 2012), unchanged in Certain Cased Pencils from the People's Republic of China: Final Results of Antidumping Duty Changed Circumstances Review, and Determination To Revoke Order, in Part, 77 FR 53176 (August 31, 2012).

The domestic producers stated that they “do not oppose revocation of the {CAAS AD Order} on Germany with respect to the lithographic-grade aluminum sheet for which Kodak is seeking a partial revocation in its request for a {CCR}.” ¹¹ However, there is no contemporaneous information on the record demonstrating that the domestic producers who are not opposed to Kodak's request currently account for substantially all the U.S. production of the domestic like product covered by the CAAS AD Order on Germany. Therefore, we are not combining this notice of initiation with the preliminary results of the changed circumstances review, pursuant to 19 CFR 351.221(c)(3)(ii).

¹¹ See Kodak's Supplemental Questionnaire Response at Exhibit 1 at 2.

Additionally, Commerce has concerns about implementing end-use certificates in connection with the requested partial revocation, as suggested by Kodak.¹² For this reason, we placed on the record a memorandum to the file in which we provide proposed revisions to Kodak's exclusion language to remove references to end-use certificates.¹³ We will consider the appropriate exclusion language, as well as interested parties' comments on Commerce's proposed exclusion language, before issuing the preliminary results of this CCR.

¹² See Request for CCR at 3.

¹³ See Memorandum, “Proposed Exclusion Language,” dated concurrently with this notice (Exclusion Language Memorandum).

Public Comment

Interested parties are invited to provide comments and factual information regarding this CCR, including comments on domestic industry support for the partial revocation, Commerce's proposed exclusion language, and the use of end-use certificates. Comments and factual information may be submitted to Commerce no later than 30 days after the date of publication of this notice in the Federal Register. Rebuttal comments and rebuttal factual information may be filed with Commerce no later than seven days after the comments and factual information are filed.¹⁴

¹⁴ Submissions of rebuttal factual information must comply with 19 CFR 351.301(b)(2).

All submissions must be filed electronically using Enforcement and Compliance's Antidumping and Countervailing Duty Centralized Electronic Service System (ACCESS).¹⁵ An electronically filed document must be received successfully in its entirety by ACCESS, by 5 p.m. Eastern Time on the due dates set forth in this notice. Note that Commerce has temporarily modified certain of its requirements for serving documents containing business proprietary information until further notice.¹⁶

¹⁵ See, generally, 19 CFR 351.303.

¹⁶ See Temporary Rule Modifying AD/CVD Service Requirements Due to COVID-19; Extension of Effective Period, 85 FR 41363 (July 10, 2020).

Preliminary Results of the Review

Commerce intends to publish notice of the preliminary results of this CCR in the Federal Register in accordance with 19 CFR 351.221(b)(4) and (c)(3)(i). Commerce will set forth its preliminary factual and legal conclusions in that notice.

Final Results of the Review

Unless extended, Commerce will issue the final results of this changed circumstances review in accordance with the time limits set forth in 19 CFR 351.216(e).

Notification to Interested Parties

This initiation notice is published in accordance with section 751(b)(1) of the Act and 19 CFR 351.221(b)(1).

Dated: July 24, 2023.
James Maeder,
Deputy Assistant Secretary for Antidumping and Countervailing Duty Operations.

[FR Doc. 2023-16093 Filed 7-28-23; 8:45 am]

BILLING CODE 3510-DS-P